DEPARTMENT OF HEALTH AND HUMAN SERVICES

Administration for Community Living

Agency Information Collection Activities: Submission for OMB Review; Comment Request; OAA Title III-E Evaluation

AGENCY: Administration for Community Living, HHS.

ACTION: Notice.

SUMMARY: The Administration for Community Living (ACL) is announcing an opportunity to comment on the proposed collection of certain information by the agency. Under the Paperwork Reduction Act of 1995 (the PRA), Federal agencies are required to publish notice in the Federal Register concerning each proposed collection of information, including each proposed extension of an existing collection of information, and to allow 60 days for public comment in response to the notice. This notice solicits comments on the information collection requirements relating to Older Americans Act (OAA) Title III-E Evaluation.

DATES: Submit written or electronic comments on the collection of information by January 21, 2014.

ADDRESSES: Submit electronic comments on the collection of information to: Alice-Lynn.Ryssman@acl.hhs.gov. Submit written comments on the collection of information to Alice-Lynn Ryssman, U.S. Administration for Community Living, Washington, DC 20201.

FOR FURTHER INFORMATION CONTACT: Alice-Lynn Ryssman, 202-357-3491.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency request or requirements that members of the public submit reports, keep records, or provide information to a third party. Section 3506(c)(2)(A) of the PRA (44 U.S.C. 3506(c)(2)(A)) requires Federal agencies to provide a 60-day notice in the Federal Register concerning each proposed collection of information, including each proposed extension of an existing collection of information, before submitting the collection to OMB for approval. To comply with this requirement, ACL is publishing notice of the proposed collection of information set forth in this document. With respect to the following collection of information, ACL invites comments on: (1) Whether the proposed collection of information is necessary for the proper performance of ACL's functions, including whether the information will have practical utility; (2) the accuracy of ACL's estimate of the burden of the proposed collection of information, including the validity of the methodology and assumptions used; (3) ways to enhance the quality, utility, and clarity of the information to be collected; and (4) ways to minimize the burden of the collection of information on respondents, including through the use of automated collection techniques when appropriate, and other forms of information technology.

The OAA Title III-E National Family Caregiver Support Program (NFCSP), with statutory authority contained in Title III sections 302, 372, and 373 of the Older Americans Act (OAA) (42 U.S.C. 3032), as amended by the Older Americans Act Amendments of 2006, Pub. L. 109-365), funds a range of comprehensive home- and community-based services supports that assist family and informal caregivers to care for their loved ones at home for as long as possible. ACL is directed under 206(a) of the OAA to conduct evaluations of OAA programs. Thus, this data collection will conduct an evaluation of the NFCSP to fulfill this requirement and understand how well this program is meeting its goals and mission.

The evaluation design is comprised of two primary components:

1. A process study, which examines the strategies, activities, and resources of the program at each level of the Aging Network—State Unit on Aging (SUA), Area Agency on Aging (AAA), and Local Service Provider (LSP); and

2. A client outcome study, which examines the health and social effects of the program on participants compared to non-participants. This study examines the health and social effects on caregivers and also tracks the health outcomes of the care recipients.

The process study will include all 56 SUAs, all of the AAAs (N = 618), a sample of local service providers (N = 1,000), and a sample of program participants (1,250) and non-participants (N = 1,250). The table below provides the information ACL used to estimate the burden of this collection of information:

Respondent type | Number of respondents | Responses per respondent | Average burden per response (hrs.) | Total average annual burden (hrs.)
All SUAs | 56 | 1 | 1.5 | 84
All AAAs | 618 | 1 | 2 | 1236
Stratified sample of LSPs | 1,000 | 1 | 0.33 | 330
Family caregivers participating in NFCSP | 1,250 | 3 | 0.58 | 2175
Family caregivers not participating in NFCSP | 1,250 | 3 | 0.58 | 2175
Total | 4,174 |  |  | 6,000

The proposed data collection tools may be found on the ACL Web site at http://www.aoa.gov/AoARoot/Program_Results/Program_survey.aspx.

Dated: November 15, 2013.
Kathy Greenlee,
Administrator and Assistant Secretary for Aging.

[FR Doc. 2013-27822 Filed 11-19-13; 8:45 am]

BILLING CODE 4154-01-P